ENVIRONMENTAL PROTECTION AGENCY

[EPA-HQ-SFUND- 2004-0006; FRL-9988-07-OEI]

Information Collection Request Submitted to OMB for Review and Approval; Comment Request; Community Right-to-Know Reporting Requirements Under Sections 311 and 312 of the Emergency Planning and Community Right-to-Know Act (EPCRA) (Renewal)

AGENCY: Environmental Protection Agency (EPA).

ACTION: Notice.

SUMMARY: The Environmental Protection Agency (EPA) has submitted an information collection request (ICR), Community Right-to-Know Reporting Requirements under Sections 311 and 312 of the Emergency Planning and Community Right-to-Know Act (EPCRA) (EPA ICR Number 1352.14, OMB Control Number 2050-0072), to the Office of Management and Budget (OMB) for review and approval in accordance with the Paperwork Reduction Act. This is a proposed extension of the ICR, which is currently approved through December 31, 2018. Public comments were previously requested via the Federal Register on July 18, 2018 during a 60-day comment period. This notice allows for an additional 30 days for public comments. A fuller description of the ICR is given below, including its estimated burden and cost to the public. An agency may not conduct or sponsor and a person is not required to respond to a collection of information unless it displays a currently valid OMB control number.

DATES: Comments must be submitted on or before January 28, 2019.

ADDRESSES: Submit your comments, referencing Docket ID No. EPA-HQ-SFUND-2004-0006, to (1) EPA online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for these requirements is sections 311 and 312 of the Emergency Planning and Community Right-to-Know Act (EPCRA), 1986 (42 U.S.C. 11011, 11012). EPCRA Section 311 requires owners and operators of facilities subject to OSHA Hazard Communication Standard (HCS) to submit a list of chemicals or MSDSs (for those chemicals that exceed thresholds, specified in 40 CFR part 370) to the State Emergency Response Commission (SERC) or Tribal Emergency Response Commission (TERC), Local Emergency Planning Committee (LEPC) or Tribal Emergency Planning Committee (TEPC) and the local fire department (LFD) with jurisdiction over their facility. This is a one-time requirement unless a facility becomes subject to the regulations or has updated information on the hazardous chemicals that were already submitted by the facility. EPCRA Section 312 requires owners and operators of facilities subject to OSHA HCS to submit an inventory form (for those chemicals that exceed the thresholds, specified in 40 CFR part 370) to the SERC (or TERC), LEPC (or TEPC), and LFD with jurisdiction over their facility. This inventory form, Tier II (Emergency and Hazardous Chemical Inventory Form), is to be submitted on March 1 of each year and must include the inventory of hazardous chemicals present at the facility in the previous calendar year.

On July 13, 2012, EPA published a final rule to add some new data elements to the facility identification and contact information sections of the Tier I and Tier II inventory forms. EPA also revised some existing data elements in the chemical reporting section of the Tier II form to ease reporting for facilities and make the forms more user-friendly for state and local agencies. The data elements that EPA added to the forms were requested by state and local agencies to improve their emergency response plans and response coordination during an emergency. The additional data elements, including general facility identification and contact information for the parent company, owner or operator of the company, facility emergency coordinator etc., are readily available to facilities and usually do not change from year to year. The burden and costs for adding these data elements, including one-time burden for familiarization by respondents and software updates by state agencies, as well as the additional annual burden, are approved under OMB Control Number 2050-0206. The facility-level burden to complete the new and revised data elements of per facility approved under OMB Control Number is being added to this ICR.

Respondents/affected entities: Manufacturers and non-manufacturers required to have available a Material Safety Data Sheet (or Safety Data Sheet) under the OSHA HCS.

Form Numbers: Tier II Emergency and Hazardous Chemical Inventory Form, EPA Form No. 8700-30.

Respondent's obligation to respond: Mandatory (Sections 311 and 312 of EPCRA).

Estimated number of respondents: 465,692 (includes 3,052 SERCs and LEPCs).

Frequency of response: Annual.

Total estimated burden: 6,963,565 hours (per year). Burden is defined at 5 CFR 1320.03(b).

Total estimated cost: $301,067,822 (per year), includes $5,415,824 in annualized capital and operation & maintenance costs.

Changes in Estimates: There is an increase of 1,048,311 hours compared to the previous ICR approved by OMB. This increase in burden is attributable mainly to the 15.66 percent increase in the estimated number of facilities subject to Tier II reporting, based on a recount of the number of facilities in the E-Plan database and information provided by EPA Regions, and the additional burden for Inventory Reporting Activity from the consolidation of 2050-0206 with this ICR. A small portion of the change in burden is attributable to the correction of math errors in the previous ICR renewal.

Courtney Kerwin,
Director, Regulatory Support Division.

[FR Doc. 2018-27960 Filed 12-26-18; 8:45 am]

BILLING CODE 6560-50-P